DEPARTMENT OF ENERGY

Federal Energy Regulatory Commission

[Project Nos. 2692-032, 2698-033, 2686-032, 2601-007, 2602-005, 2603-012, 2619-012]

Duke Power; Notice of Settlement Agreements and Soliciting Comments

June 4, 2004.

Take notice that the following settlement agreements have been filed with the Commission and are available for public inspection.

a. Type of Application: Settlement agreements (Tuckasegee River and Nantahala River).

b. Project Nos.: 2692-032, 2698-033, 2686-032, 2601-007, 2602-005, 2603-012, 2619-012.

c. Date Filed: January 26, 2004.

d. Applicant: Duke Power

e. Names of Projects: Nantahala, East Fork, West Fork, Bryson, Dillsboro, Franklin, and Mission Hydroelectric Projects.

f. Location: The Nantahala Project is located on the Nantahala River and its tributaries, in Macon and Clay Counties, North Carolina. There are 41 acres of United States Forest Service land (Nantahala National Forest) within the boundary of the project. The East Fork Project is located on the East Fork of the Tuckasegee River, in Jackson County, North Carolina. There are 23.15 acres of United States Forest Service land (Nantahala National Forest) within the boundary of the project. The West Fork Project is located on the West Fork of the Tuckasegee River, in Jackson County, North Carolina. The project does not affect Federal lands. The Bryson Project is located on the Oconaluftee River, in Swain County, North Carolina. The project does not affect Federal lands. The Dillsboro Project is located on the Tuckasegee River, in Jackson County, North Carolina. The project does not affect Federal lands. The Franklin Project is located on the Little Tennessee River, in Macon County, North Carolina. The project does not affect Federal lands. The Mission Project is located on the Hiwassee River, in Clay County, North Carolina. The project does not affect Federal lands.

g. Filed Pursuant to: Rule 602 of the Commission's Rules of Practice and Procedure, 18 CFR 385.602.

h. Applicant Contact: John C. Wishon, Nantahala Area Relicensing Project Manager, Duke Power, 301 NP&L Loop, Franklin, NC 28734, (828) 369-4604, jcwishon@duke-energy.com.

i. FERC Contact: Carolyn Holsopple at (202) 502-6407 or carolyn.holsopple@ferc.gov.

j. Deadline for Filing Comments: The deadline for filing comments on the Settlement Agreements is 20 days from the date of this notice. The deadline for filing reply comments is 30 days from the date of this notice. All documents (original and eight copies) should be filed with: Magalie R. Salas, Secretary, Federal Energy Regulatory Commission, 888 First Street, NE., Washington, DC 20426.

The Commission's Rules of Practice require all intervenors filing documents with the Commission to serve a copy of that document on each person on the official service list for the project. Further, if an intervenor files comments or documents with the Commission relating to the merits of an issue that may affect the responsibilities of a particular resource agency, they must also serve a copy of the document on that resource agency.

Comments may be filed electronically via the Internet in lieu of paper. See 18 CFR 385.2001(a)(1)(iii) and the instructions of the Commission's Web site (http://www.ferc.gov) under the “e-filing” link.

k. Duke Power filed two Settlement Agreements (Tuckasegee River and Nantahala River) on behalf of itself and 19 other stakeholders. The purpose of the Settlement Agreements is to resolve, among the signatories, all issues related to Duke Power's pending Applications for New Licenses for the Nantahala, East Fork, West Fork, Bryson, Franklin, and Mission Hydroelectric Projects and provides for the removal of the Dillsboro Dam as one of several environmental enhancement measures proposed at the six other projects. The issues resolved through the settlements include but are not limited to reservoir level limitations, public recreational facilities, minimum flow requirements for habitat and recreation, downstream recreational flows, flow and reservoir level communication protocols, resource enhancements, shoreline management guidelines, cultural resources, sediment management and compliance monitoring and reporting requirements.

l. Copies of the Settlement Agreements are available for review at the Commission in the Public Reference Room or may be viewed on the Commission's Web site at http://www.ferc.gov, using the “e-Library” link. Enter the docket number, excluding the last three digits in the docket number field to access the documents. For assistance, contact FERC Online Support at FERCOnlineSupport@ferc.gov or toll-free at 1-866-208-3676, or for TTY, (202) 502-8659. A copy is also available for inspection and reproduction at the address in item h above.

Register online at http://www.ferc.gov/esubscribenow.htm to be notified via e-mail of new filings and issuances related to this or other pending projects. For assistance, contact FERC Online Support.

Linda Mitry,
Acting Secretary.

[FR Doc. E4-1315 Filed 6-9-04; 8:45 am]

BILLING CODE 6717-01-P